DEPARTMENT OF TRANSPORTATION

Federal Aviation Administration

14 CFR Part 39

[Docket No. 99-NE-41-AD; Amendment 39-14015; AD 2005-06-07]

RIN 2120-AA64

Airworthiness Directives; General Electric Company (GE) CF6-80A1/A3 and CF6-80C2A Series Turbofan Engines, Installed on Airbus Industrie A300-600 and A310 Series Airplanes

AGENCY: Federal Aviation Administration (FAA), DOT.

ACTION: Final rule.

SUMMARY: The FAA is superseding an existing airworthiness directive (AD) for GE CF6-80A1/A3 and CF6-80C2A series turbofan engines. That AD currently requires completing one of the following actions before further flight:

• Performing a directional pilot valve (DPV) pressure check for leakage, and, if necessary, replacing the DPV assembly with a serviceable assembly, or

• Replacing the DPV assembly with a serviceable assembly, or

• Deactivating the thrust reverser, and revising the FAA-approved airplane flight manual (AFM) to require applying performance penalties for certain takeoff conditions if a thrust reverser is deactivated.

That AD also requires revising the Emergency Procedures Section of the FAA-approved AFM to include a flight crew operational procedure for use in the event of any indication of an in-flight thrust reverser deployment.

This AD specifies the same requirements for leak checks, but increases the interval between required checks. This AD also removes the requirement to revise the Limitations Section and the Emergency Procedures Section of the applicable AFM when deactivating one or both thrust reversers. This AD results from Airbus Industrie, the airplane manufacturer, revising the master minimum equipment list (MMEL) to include procedures for operating the airplane with the thrust reversers deactivated, and revising the AFM to include procedures for emergency operation if the thrust reversers deploy while in flight. This AD also results from the engine manufacturer recommending extending the interval between inspecting or replacing the DPV. We are issuing this AD to prevent inadvertent thrust reverser deployment, which, if it occurs in-flight, could result in loss of control of the airplane.

DATES: This AD becomes effective April 25, 2005. The Director of the Federal Register approved the incorporation by reference of certain publications listed in the regulations as of April 25, 2005.

ADDRESSES: You can get the service information identified in this AD from Middle River Aircraft Systems, Mail Point 46, 103 Chesapeake Park Plaza, Baltimore, MD 21220, Attn: Product Support Engineering; telephone (410) 682-0098, fax (410) 682-0100.

You may examine the AD docket at the FAA, New England Region, Office of the Regional Counsel, 12 New England Executive Park, Burlington, MA.

FOR FURTHER INFORMATION CONTACT: Karen Curtis, Aerospace Engineer, Engine Certification Office, FAA, Engine and Propeller Directorate, 12 New England Executive Park, Burlington, MA 01803-5299; telephone (781) 238-7192; fax (781) 238-7199.

SUPPLEMENTARY INFORMATION: The FAA proposed to amend 14 CFR part 39 with a proposed AD. The proposed AD applies to GE CF6-80A1/A3 and CF6-80C2A series turbofan engines. We published the proposed AD in the Federal Register on July 29, 2004 (69 FR 45295). That action proposed the same requirements for leak checks as the AD being superseded, AD 99-18-19, Amendment 39-11285 (64 FR 48277, September 23, 1999), but would increase the interval between required checks.

Examining the AD Docket

You may examine the AD Docket (including any comments and service information), by appointment, between 8 a.m. and 4:30 p.m., Monday through Friday, except Federal holidays. See ADDRESSES for the location.

Comments

We provided the public the opportunity to participate in the development of this AD. We have considered the comments received.

Request That the AD Be Closed

One commenter requests that the AD be closed instead of superseded. The commenter states his airplanes have never experienced a leaky DPV.

We do not agree. Although the operator has not yet experienced any leaks, the possibility still exists that a DPV leak may occur. This type of leak is a hidden failure that cannot be detected at the system level, and could result in inadvertent thrust reverser deployment, which, if it occurs in-flight, could result in loss of control of the airplane. This superseding AD reflects the favorable inspection results, by extending the inspection interval.

Request To Address Alternative Methods of Compliance (AMOCs)

One commenter requests that any AMOCs issued under AD 99-18-19 be addressed in the superseding AD. The commenter states that it would be beneficial if operators did not have to submit new AMOC requests for deviations or changes previously approved by the FAA under AD 99-18-19.

We agree that any known AMOCs should be addressed in this superseding AD. The two known AMOCs issued under AD 99-18-19, however, are no longer necessary under the superseding AD. Any AMOCs that may have been overlooked and are not made obsolete by this superseding AD should be brought to the attention of the FAA Engine Certification Office.

Request for Increased Inspection Interval

One commenter requests that an increased inspection interval for engines configured with the Third Line of Defense (TLOD) system be included in this superseding AD. The commenter cites service bulletins issued by Airbus, and an AD issued by the Direction Generale de L'Aviation Civile (DGAC), the airworthiness authority for France, as substantiation for the interval increase. The commenter acknowledges that the DGAC AD does not affect U.S. registered airplanes.

We do not agree. The FAA Engine Certification Office has not yet approved the increased interval for engines configured with the TLOD system. The DGAC AD referenced by the commenter, AD 1999-242-289 R1, dated July 7, 2004, was subsequently cancelled by the European Aviation Safety Agency (EASA) with the issuance of AD 1999-242-289 R2. This cancellation notice stated that AD 1999-242-289 R1 was replaced by FAA AD 99-18-19, as noted on EASA cover document 2002-362-IMP.

Request To Clarify the Reason for Issuing a Superseding AD

In the proposed AD, we stated that the proposed AD “results from revisions to the manufacturer's alert service bulletins”. We received an internal request to clarify the reason for the superseding AD. For clarification, we have changed the final rule to state:

“This AD results from Airbus Industrie, the airplane manufacturer, revising the master minimum equipment list (MMEL) to include procedures for operating the airplane with the thrust reversers deactivated, and revising the AFM to include procedures for emergency operation if the thrust reversers deploy while in flight. This AD also results from the engine manufacturer recommending extending the interval between inspecting or replacing the DPV.”

Conclusion

We have carefully reviewed the available data, including the comments received, and determined that air safety and the public interest require adopting the AD with the changes described previously. We have determined that these changes will neither increase the economic burden on any operator nor increase the scope of the AD.

Costs of Compliance

There are about 544 engines of the affected design in the worldwide fleet. We estimate that 192 engines installed on airplanes of U.S. registry will be affected by this AD. We also estimate that it will take about 1 work hour per engine to perform the actions (about 227 per year), and that the average labor rate is $65 per work hour. Required parts will cost about $12,000 per engine. We estimate that operators will replace 9 percent of the existing DPVs. Based on these figures, we estimate the total cost of the AD to U.S. operators to be $259,915.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 99-NE-41-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-11285 (64 FR 48277, September 23, 1999) and by adding a new airworthiness directive, Amendment 39-14015, to read as follows:

2005-06-07 General Electric Company: Amendment 39-14015. Docket No. 99-NE-41-AD.

Effective Date

(a) This AD becomes effective April 25, 2005.

Affected ADs

(b) This AD supersedes AD 99-18-19, Amendment 39-11285.

Applicability: (c) This AD applies to General Electric Company (GE) CF6-80A1/A3 and CF6-80C2A series turbofan engines. These engines are installed on, but not limited to, Airbus Industrie A300-600 and A310 series airplanes.

Unsafe Condition

(d) This AD results from Airbus Industrie, the airplane manufacturer, revising the master minimum equipment list (MMEL) to include procedures for operating the airplane with the thrust reversers deactivated, and revising the Airplane Flight Manual (AFM) to include procedures for emergency operation if the thrust reversers deploy while in flight. This AD also results from the engine manufacturer recommending extending the interval between inspecting or replacing the directional pilot valve (DPV). We are issuing this AD to prevent inadvertent thrust reverser deployment, which, if it occurs in-flight, could result in loss of control of the airplane.

Compliance

(e) You are responsible for having the actions required by this AD performed within the compliance times specified, unless the actions have already been done.

Credit for Initial Actions

(f) Performing the initial actions using Middle River Aircraft Systems (MRAS) Alert Service Bulletin (ASB) No. CF6-80A1/A3 SB 78A4022, Revision 2, dated September 17, 2003, or earlier revision or MRAS ASB No. CF6-80C2A SB 78A1081, Revision 2, dated September 17, 2003, or earlier revision, satisfies the requirements of paragraphs (g) and (i) of this AD.

GE CF6-80A1/A3 Series Engines Initial Actions

(g) For GE CF6-80A1/A3 series engines, do either paragraph (g)(1) or (g)(2) of this AD.

(1) Before further flight, perform a pressure check of the DPV for leakage. Use 2.B.(1) through 2.B.(12) of the Accomplishment Instructions of MRAS ASB No. CF6-80A1/A3 SB 78A4022, Revision 2, dated September 17, 2003, and if necessary, do either of the following:

(i) Replace the DPV assembly with a serviceable assembly and perform an operational check of the thrust reverser. Use 2.C.(1) through 2.C.(7) of the Accomplishment Instructions of MRAS ASB No. CF6-80A1/A3 SB 78A4022, Revision 2, dated September 17, 2003, or

(ii) Deactivate the thrust reverser and do the following:

(A) Replace the DPV with a serviceable DPV within 10 calendar days.

(B) Perform an operational check of the thrust reverser. Use 2.C.(1) through 2.C.(7) of the Accomplishment Instructions of MRAS ASB No. CF6-80A1/A3 SB 78A4022, Revision 2, dated September 17, 2003.

(2) Before further flight, replace the DPV assembly with a serviceable assembly, and perform an operational check of the thrust reverser. Use 2.C.(1) through 2.C.(7) of the Accomplishment Instructions of MRAS ASB No. CF6-80A1/A3 SB 78A4022, Revision 2, dated September 17, 2003.

GE CF6-80A1/A3 Series Engines Repetitive Actions

(h) For GE CF6-80A1/A3 series engines, do either paragraph (h)(1) or (h)(2) of this AD within 1,400 hours time-in-service (TIS) since the last action.

(1) Perform a pressure check of the DPV for leakage. Use 2.B.(1) through 2.B.(12) of the Accomplishment Instructions of MRAS ASB No. CF6-80A1/A3 SB 78A4022, Revision 2, dated September 17, 2003, and if necessary, do either of the following:

(i) Replace the DPV assembly with a serviceable assembly and perform an operational check of the thrust reverser. Use 2.C.(1) through 2.C.(7) of the Accomplishment Instructions of MRAS ASB No. CF6-80A1/A3 SB 78A4022, Revision 2, dated September 17, 2003, or

(ii) Deactivate the thrust reverser and do the following:

(A) Replace the DPV with a serviceable DPV within 10 calendar days.

(B) Perform an operational check of the thrust reverser. Use 2.C.(1) through 2.C.(7) of the Accomplishment Instructions of MRAS ASB No. CF6-80A1/A3 SB 78A4022, Revision 2, dated September 17, 2003.

(2) Replace the DPV assembly with a serviceable assembly, and perform an operational check of the thrust reverser. Use 2.C.(1) through 2.C.(7) of the Accomplishment Instructions of MRAS ASB No. CF6-80A1/A3 SB 78A4022, Revision 2, dated September 17, 2003.

GE CF6-80C2A Series Engines Initial Actions

(i) For GE CF6-80C2A series engines, do either paragraph (i)(1) or (i)(2) of this AD.

(1) Before further flight, perform a pressure check of the DPV for leakage. Use 2.B.(1) through 2.B.(12) of the Accomplishment Instructions of MRAS ASB No. CF6-80C2A SB 78A1081, Revision 2, dated September 17, 2003, and if necessary, do either of the following:

(i) Replace the DPV assembly with a serviceable assembly and perform an operational check of the thrust reverser. Use 2.C.(1) through 2.C.(5) of the Accomplishment Instructions of MRAS ASB No. CF6-80C2A SB 78A1081, Revision 2, dated September 17, 2003, or

(ii) Deactivate the thrust reverser and do the following:

(A) Replace the DPV with a serviceable DPV within 10 calendar days.

(B) Perform an operational check of the thrust reverser. Use 2.C.(1) through 2.C.(5) of the Accomplishment Instructions of MRAS ASB No. CF6-80C2A SB 78A1081, Revision 2, dated September 17, 2003.

(2) Before further flight, replace the DPV assembly with a serviceable assembly, and perform an operational check of the thrust reverser. Use 2.C.(1) through 2.C.(5) of the Accomplishment Instructions of MRAS ASB No. CF6-80C2A SB 78A4022, Revision 2, dated September 17, 2003.

GE CF6-80C2A Series Engines Repetitive Actions

(j) For GE CF6-80C2A series engines, do either (j)(1) or (j)(2) of this AD within 1,400 hours TIS since the last action.

(1) Perform a pressure check of the DPV for leakage. Use 2.B.(1) through 2.B.(12) of the Accomplishment Instructions of MRAS ASB No. CF6-80C2A SB 78A1081, Revision 2, dated September 17, 2003, and if necessary, do either of the following:

(i) Replace the DPV assembly with a serviceable assembly and perform an operational check of the thrust reverser. Use 2.C.(1) through 2.C.(5) of the Accomplishment Instructions of MRAS ASB No. CF6-80C2A SB 78A1081, Revision 2, dated September 17, 2003, or

(ii) Deactivate the thrust reverser and do the following:

(A) Replace the DPV with a serviceable DPV within 10 calendar days.

(B) Perform an operational check of the thrust reverser. Use 2.C.(1) through 2.C.(5) of the Accomplishment Instructions of MRAS ASB No. CF6-80C2A SB 78A1081, Revision 2, dated September 17, 2003.

(2) Replace the DPV assembly with a serviceable assembly, and perform an operational check of the thrust reverser. Use 2.C.(1) through 2.C.(5) of the Accomplishment Instructions of MRAS ASB No. CF6-80C2A SB 78A1081, Revision 2, dated September 17, 2003.

Definition of Serviceable DPV Assembly

(k) For the purpose of this AD, a serviceable DPV assembly is:

(1) An assembly that has accumulated zero time in service, or

(2) An assembly that has accumulated zero time in service after having passed the tests in the MRAS Component Maintenance Manual GEK 85007 (78-31-51), Revision No. 6 or later, Directional Pilot Valve, Page Block 101, Testing and Troubleshooting, or

(3) An assembly that has been successfully leak checked using Paragraph 2.B. of the Accomplishment Instructions of MRAS ASB No. 78A4022, Revision 2, dated September 17, 2003, or earlier revision, or ASB No. 78A1081, Revision 2, dated September 17, 2003, or earlier revision, as applicable, immediately before installation on the airplane.

Alternative Methods of Compliance

(l) The Manager, Engine Certification Office, has the authority to approve alternative methods of compliance for this AD, if requested, using the procedures found in 14 CFR 39.19.

Material Incorporated by Reference

(m) You must use the Middle River Aircraft Systems (MRAS) Alert Service Bulletins (ASB) listed in Table 1 of this AD to perform the actions required by this AD. The Director of the Federal Register approved the incorporation by reference of the documents listed in Table 1 of this AD in accordance with 5 U.S.C. 552(a) and 1 CFR part 51. You can get a copy from Middle River Aircraft Systems, Mail Point 46, 103 Chesapeake Park Plaza, Baltimore, MD 21220, Attn: Product Support Engineering; telephone (410) 682-0098, fax (410) 682-0100. You can review copies at the FAA, New England Region, Office of the Regional Counsel, 12 New England Executive Park, Burlington, MA; or at the National Archives and Records Administration (NARA). For information on the availability of this material at NARA, call 202-741-6030, or go to: http://www.archives.gov/federal_register/code_of_federal_regulations/ibr_locations.html.

Table 1 follows:

Table 1.—Incorporation by Reference
Middle River Aircraft Systems ASB No. | Page number(s) shown on the page | Revision level shown on the page | Date shown on the page
78A4022, Total pages: 18 | ALL | 2 | September 17, 2003.
78A1081, Total pages: 18 | ALL | 2 | September 17, 2003.

Related Information

(n) None.

Issued in Burlington, Massachusetts, on March 9, 2005.
Francis A. Favara,
Acting Manager, Engine and Propeller Directorate, Aircraft Certification Service.

[FR Doc. 05-5299 Filed 3-18-05; 8:45 am]

BILLING CODE 4910-13-P